NUCLEAR REGULATORY COMMISSION

Advisory Committee on Nuclear Waste and Materials; Meeting Notice

The Advisory Committee on Nuclear Waste and Materials (ACNW&M) will hold its 185th meeting on December 17-19, 2007, at 11545 Rockville Pike, Rockville, Maryland.

Monday, December 17, 2007, Room T-2B3

8:30 a.m.-8:35 a.m.: Opening Remarks by the ACNW&M Chairman (Open)—The Chairman will make opening remarks regarding the conduct of today's sessions.

8:35 a.m.-10 a.m.: Electric Power Research Institute's Report on Drift Degradation at Yucca Mountain (Open)—A representative from the Electric Power Research Institute will summarize the approach, methods, and conclusions of their 2007 report on drift degradation.

1 p.m.-2:30 p.m.: Update on NRC Rulemaking on Groundwater Protection at the In-Situ Leach Uranium Mining Facilities (Open)—NRC staff from the Office of Federal and State Materials and Environmental Management Programs (FSME) will brief the Committee on the status of the rulemaking on groundwater protection at in-situ leach uranium recovery sites.

2:45 p.m.-3:30 p.m.: Vendor's View on the Transportation-Aging Disposal Performance Specifications (Open)—A representative from NAC International, a commercial cask vendor, will brief the Committee on their views on the Transportation-Aging-Disposal (TAD) performance specifications, possible challenges the vendor may be facing, and suggestions for expediting NRC approval of any TAD license application.

3:30 p.m.-5 p.m.: Discussion of ACNW&M Letter Reports (Open)—The Committee will discuss potential and proposed ACNW&M letter reports.

Tuesday, December 18, 2007, Room T-2B3

8:30 a.m.-8:35 a.m.: Opening Remarks by the ACNW&M Chairman (Open)-The Chairman will make opening remarks regarding the conduct of today's sessions.

8:35 a.m.-9:30 a.m.: Status of Operations at the Barnwell Low-Level Radioactive Waste Disposal Facility (Open)—The Barnwell low-level radioactive waste (LLW) disposal facility is scheduled to close to non-compact states in July 2008. A representative of the site's operator, Energy Solutions, will update the Committee on activities at this commercial disposal facility in anticipation of scaled-back operations.

9:45 a.m.-11:30 a.m.: NRC 2006 Commercial LLW Strategic Planning Initiative (Open)—Representatives from the Office of FSME will brief the Committee on their recently-issued Commission Paper (SECY-07-0180) containing specific recommendations on the scope of work to be considered in any future NRC commercial LLW program. This briefing is also expected to include a summary of the public comments received in 2005.

1 p.m.-2 p.m.: Review of Planned Waste Management Activities at U.S. Department of Energy Mixed-Oxide Fuel Fabrication Facility (Open)—NRC staff from the Office of Nuclear Material Safety and Safeguards will brief the Committee on planned waste management activities at U.S. Department of Energy's (DOE) Mixed-Oxide Fuel Fabrication Facility in Aiken, South Carolina.

2 p.m.-3 p.m.: Briefing on Tritium Task Force Actions to Revise the Significance Determination Process to Address Spills and Leaks (Open)—A representative from the Office of Nuclear Reactor Regulation will report on the revisions to its Significance Determination Process to address radioactive liquid spills and leaks in response to an action recommended in the Tritium Task Force Report.

3:15 p.m.-5 p.m.: Discussion of ACNW&M Letter Reports (Open)—The Committee will discuss potential and proposed ACNW&M letter reports.

Wednesday, December 19, 2007, Room T-2B1

8:30 a.m.-8:35 a.m.: Opening Remarks by the ACNW&M Chairman (Open)—The Chairman will make opening remarks regarding the conduct of today's sessions.

8:35 a.m.-3 p.m.: Discussion of ACNW&M Letter Reports (Open)—The Committee will continue discussion of proposed ACNW&M letter reports.

3 p.m.-4 p.m.: Miscellaneous (Open)—The Committee will discuss matters related to the conduct of ACNW&M activities and specific issues that were not completed during previous meetings, as time and availability of information permit. Discussions may include content of future letters and scope of future Committee Meetings.

Procedures for the conduct of and participation in ACNW&M meetings were published in the Federal Register on September 26, 2007 (72 FR 54693). In accordance with those procedures, oral or written views may be presented by members of the public. Electronic recordings will be permitted only during those portions of the meeting that are open to the public. Persons desiring to make oral statements should notify Dr. Antonio F. Dias (Telephone 301-415-6805), between 8:15 a.m. and 5 p.m. (ET), as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

Further information regarding topics to be discussed, whether the meeting has been canceled or rescheduled, as well as the Chairman's ruling on requests for the opportunity to present oral statements and the time allotted therefore can be obtained by contacting Dr. Dias.

Video teleconferencing service is available for observing open sessions of ACNW&M meetings. Those wishing to use this service for observing ACNW&M meetings should contact Mr. Theron Brown, ACRS/ACNW&M Audio Visual Assistant (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

During the days of the meeting, phone number 301-415-7360 should be used in order to access anyone in the ACNW&M Office.

ACNW&M meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/acnw (ACNW&M schedules and agendas).

Dated: November 27, 2007.
Andrew L. Bates,
Advisory Committee Management Officer.

[FR Doc. E7-23331 Filed 11-30-07; 8:45 am]

BILLING CODE 7590-01-P